ENVIRONMENTAL PROTECTION AGENCY

40 CFR Part 300

[EPA-HQ-SFUND-1994-0001; FRL-9996-74-Region 4]

National Oil and Hazardous Substances Pollution Contingency Plan; National Priorities List: Partial Deletion of the Escambia Wood—Pensacola Superfund Site

AGENCY: Environmental Protection Agency (EPA).

ACTION: Proposed rule; notice of intent.

SUMMARY: The Environmental Protection Agency (EPA) Region 4 is issuing a Notice of Intent to Delete 50 acres of the Escambia Wood—Pensacola Superfund Site (Site) located in Pensacola, Florida, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the State of Florida, through the Florida Department of Environmental Protection (FDEP), have determined that all appropriate response actions at these identified parcels under CERCLA, other than operation and maintenance and five-year reviews, have been completed. However, this deletion does not preclude future actions under Superfund.

This partial deletion pertains to 50 acres of former residential property in the former neighborhoods of Oak Park, Escambia Arms, Herman & Pearl and Clarinda Triangle, part of Operable Unit One (soils). The remaining areas of Operable Unit One (about 50 acres) and Operable Unit Two (groundwater) will remain on the NPL and are not being considered for deletion as part of this action.

DATES: Comments must be received by August 21, 2019.

ADDRESSES: Submit your comments, identified by Docket ID No. EPA-HQ-SFUND-1994-0001, by one of the following methods:

• http://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

• Email: Erik Spalvins at spalvins.erik@epa.gov or LaTonya Spencer at Spencer.LaTonya@epa.gov.

• Mail: Erik Spalvins, US EPA Region 4—Superfund & Emergency Management Divison, 61 Forsyth Street SW, Atlanta, Georgia 30303.

• Hand delivery: US EPA Region 4, Superfund & Emergency Management Divison Records Center, 61 Forsyth Street SW, Atlanta, Georgia 30303. Such deliveries are only accepted during the Docket's normal hours of operation, and special arrangements should be made for deliveries of boxed information.

Instructions: Direct your comments to Docket ID no. EPA-HQ-SFUND-1994-0001. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means The EPA will not know your identity or contact information unless you provide it in the body of your comment. If you send an email comment directly to the EPA without going through http://www.regulations.gov, your email address will be automatically captured and included as part of the comment that is placed in the public docket and made available on the internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

US EPA Region 4, Superfund & Emergency Management Divison Records Center, 61 Forsyth Street SW, Atlanta, Georgia 30303. (800) 435-9234 Hours of operation: Monday-Friday 8 a.m. to 4:30 p.m.

West Florida Genealogy Branch Library, 5740 N Ninth Ave., Pensacola, Florida 32504. (850) 494-7373 Hours of operation: Tuesday-Saturday 10 a.m. to 6 p.m.

FOR FURTHER INFORMATION CONTACT: Erik Spalvins, Remedial Project Manager, U.S. Environmental Protection Agency, Region 4, 61 Forsyth Street SW, Atlanta, GA 30303, (404) 562-8938, email: spalvins.erik@epa.gov.

SUPPLEMENTARY INFORMATION:

Table of Contents

I. Introduction

II. NPL Deletion Criteria

III. Deletion Procedures

IV. Basis for Intended Partial Site Deletion

I. Introduction

The EPA announces its intent to delete 50 acres of former residential property (in the former neighborhoods of Oak Park, Escambia Arms, Herman & Pearl and Clarinda Triangle) from Operable Unit One (soils) of the Escambia Wood—Pensacola Superfund Site (Site), from the National Priorities List (NPL) and request public comment on this proposed action. The NPL constitutes Appendix B of 40 CFR part 300 which is the National Oil and Hazardous Substances Pollution Contingency Plan (NCP), which the EPA promulgated pursuant to section 105 of the Comprehensive Environmental Response, Compensation and Liability Act (CERCLA) of 1980, as amended. The EPA maintains the NPL as those sites that appear to present a significant risk to public health, welfare, or the environment. Sites on the NPL may be the subject of remedial actions financed by the Hazardous Substance Superfund (Fund). This partial deletion of the Escambia Wood—Pensacola Site is proposed in accordance with 40 CFR 300.425(e) and is consistent with the Notice of Policy Change: Partial Deletion of Sites Listed on the National Priorities List. 60 FR 55466 (Nov. 1, 1995). As described in 300.425(e)(3) of the NCP, a portion of a site deleted from the NPL remains eligible for Fund-financed remedial action if future conditions warrant such actions.

EPA will accept comments on the proposal to partially delete this Site for thirty (30) days after publication of this document in the Federal Register.

Section II of this document explains the criteria for deleting sites from the NPL. Section III discusses procedures that the EPA is using for this action. Section IV discusses the 50 acres of former residential property in the former neighborhoods of Oak Park, Escambia Arms, Herman & Pearl and Clarinda Triangle, part of Operable Unit One of the Escambia Wood—Pensacola Superfund Site and demonstrates how it meets the deletion criteria.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, the EPA conducts five-year reviews to ensure the continued protectiveness of remedial actions where hazardous substances, pollutants, or contaminants remain at a site above levels that allow for unlimited use and unrestricted exposure. The EPA conducts such five-year reviews even if a site is deleted from the NPL. The EPA may initiate further action to ensure continued protectiveness at a deleted site if new information becomes available that indicates it is appropriate. Whenever there is a significant release from a site deleted from the NPL, the deleted site may be restored to the NPL without application of the hazard ranking system.

III. Deletion Procedures

The following procedures apply to deletion of these 50 acres from Operable Unit One of the Site:

(1) EPA consulted with the State before developing this Notice of Intent for Partial Deletion.

(2) EPA has provided the state 30 working days for review of this notice prior to publication of it today.

(3) In accordance with the criteria discussed above, the EPA has determined that no further response is appropriate.

(4) The State of Florida, through the Florida Department of Environmental Protection, has concurred with the deletion of the 50 acres of parcels from Operable Unit One (soils) of the Escambia Wood—Pensacola Superfund Site, from the NPL.

(5) Concurrently, with the publication of this Notice of Intent for Partial Deletion in the Federal Register, a notice is being published in a major local newspaper, the Pensacola News Journal. The newspaper announces the 30-day public comment period concerning the Notice of Intent for Partial Deletion of the Site from the NPL.

(6) EPA placed copies of documents supporting the proposed partial deletion in the deletion docket, made these items available for public inspection, and copying at the Site information repositories identified above.

If comments are received within the 30-day comment period on this document, the EPA will evaluate and respond accordingly to the comments before making a final decision to delete the 50 acres of parcels from Operable Unit One. If necessary, the EPA will prepare a Responsiveness Summary to address any significant public comments received. After the public comment period, if the EPA determines it is still appropriate to delete the 50 acres of parcels from Operable Unit One of the Escambia Wood—Pensacola Superfund Site, the Regional Administrator will publish a final Notice of Partial Deletion in the Federal Register. Public notices, public submissions and copies of the Responsiveness Summary, if prepared, will be made available to interested parties and included in the site information repositories listed above.

Deletion of a portion of a site from the NPL does not itself create, alter, or revoke any individual's rights or obligations. Deletion of a portion of a site from the NPL does not in any way alter the EPA's right to take enforcement actions, as appropriate. The NPL is designed primarily for informational purposes and to assist EPA management. Section 300.425(e)(3) of the NCP states that the deletion of a site from the NPL does not preclude eligibility for future response actions, should future conditions warrant such actions.

IV. Basis for Intended Partial Site Deletion

The following information provides the EPA's rationale for deleting the 50 acres of parcels from Operable Unit One (soils) of the Escambia Wood—Pensacola Superfund Site from the NPL:

The Site (CERCLIS ID: FLD008168346) is located in the City of Pensacola in Escambia County, Florida. The Site consists of a former wood-treating facility (about 30 acres) and about 70 acres of former residential neighborhoods, which were acquired by the EPA. The street address of the former facility is 3910 North Palafox Street. The former residential areas include most of the Rosewood Terrace, Oak Park, Escambia Arms, Herman & Pearl and Clarinda Triangle neighborhoods. From 1942 to 1982, the facility treated wood with creosote and pentachlorophenol, which resulted in contamination of soil and groundwater with creosote, pentachlorophenol, and dioxins. The facility was abandoned in 1991. From October 1991 into 1992, the EPA conducted a removal action to address three surface impoundments, to stop immediate exposure, and to stabilize the Site. The EPA excavated about 225,000 cubic yards of contaminated materials and secured it under a heavy-duty geomembrane cover. The EPA completed the removal action in 1992. The EPA proposed the Site to the NPL on August 23, 1994 (59 FR 43314) and the Site was added (final) on the NPL on December 16, 1994 (59 FR 65206). The EPA manages the soils at the Site as Operable Unit One and manages the groundwater as Operable Unit Two. Operable Unit One consists of the relocated residential properties and the former facility and encompasses more than 100 acres. The partial deletion consists of the 50 or so acres of residential properties acquired by the EPA in the Oak Park, Escambia Arms, Herman & Pearl and Clarinda Triangle neighborhoods.

Interim Remedial Action

EPA's first Remedial Action was an Interim Remedial Action of voluntary residential relocation. In June 1995, the EPA selected the Site for the EPA's National Relocation Evaluation Pilot. The Pilot explored the use of permanent relocations under CERCLA. The EPA selected relocation as an interim remedial action in a February 12, 1997 Interim Record of Decision. From 1997 to 2001, over 350 households and over 500 people were successfully relocated from the Rosewood Terrace, Oak Park, Escambia Arms and Herman & Pearl neighborhoods to comparable replacement housing in and around Pensacola. The February 13, 2006 Record of Decision (ROD) added the Clarinda Triangle neighborhood to the Interim remedy. The Clarinda Triangle relocation began in December 2006, was finished in August 2008, and included 38 properties. From 1997 to 2008, more than 400 households were successfully relocated as part of the Interim Remedial Action.

Remedial Investigation

The Remedial Investigation found risk from contaminated soil for current and future users of the Site. The Feasibility Study evaluated off-site disposal and on-site disposal of contaminated soil with different treatment options for both low-level and principal threat wastes. Site soils were found to be contaminated with dioxins, furans, pentachlorophenol, a variety of polynuclear aromatics and methyl napthalenes, arsenic and lead. Site soils posed an unacceptable human health risk through exposure to dermal contact, ingestion, and inhalation of soils. The future anticipated land use is commercial and industrial and was developed through a master planning process by the community, local governments and the State. Cleanup concentrations were developed to be protective to human health and are based on the future anticipated land use.

Selected Remedy

EPA issued the final Operable Unit One ROD in 2006, selecting excavation and on-site disposal in a containment cell, treatment of principal threat waste by solidification/stabilization, monitoring and institutional controls to restrict future use of the Site. The Remedial Action Objectives were: (1) Prevent ingestion, inhalation, or direct contact with surface soil that contains concentrations of contaminants in excess of the remedial cleanup goals; (2) Control migration and leaching of contaminants in surface and subsurface soil to ground water that could result in ground water contamination in excess of EPA drinking water standards (Maximum Contaminant Levels); (3) Prevent ingestion or inhalation of soil particulates that contain contaminant concentrations in excess of remedial cleanup goals; and, (4) Control future releases of contaminants to ensure protection of human health and the environment. In 2012, the EPA issued an Explanation of Significant Differences to update the 2006 Final ROD's soil cleanup goals to reflect the appropriate level of protectiveness for potential exposure pathways at the Site and to change construction requirements in the ROD that were over-specific and found to be impractical once construction was underway.

The 2006 ROD included an 18-acre containment cell on the former facility and on the former Rosewood Terrace Neighborhood, bounded by Hickory Street to the North. The area for the partial deletion does not include the former facility or the former Rosewood Terrace neighborhood. The proposed partial deletion consists of the 50 acres of former residential property in the former neighborhoods of Oak Park, Escambia Arms, Herman & Pearl and Clarinda Triangle.

Response Action

The Interim Remedial Action was designed and implemented by the EPA and the United States Army Corps of Engineers (USACE) via an Interagency Agreement. The USACE conducted the purchase of properties and relocation of residents in accordance with the Uniform Relocation Assistance and Real Property Acquisition Policies Act of 1970.

The Final Remedial Action for Operable Unit One began in September 2007. The EPA contractor excavated and stockpiled contaminated soil and debris on site. The EPA also collected confirmation samples from the floors and sidewalls of excavations and continued excavating soil if confirmation samples exceeded cleanup goals. This process was repeated until cleanup goals were no longer exceeded. The contractor constructed an 18-acre containment cell with about 20 feet of compacted contaminated soil and 2 to 3 feet of cement-stabilized soil. Once filled, the cell was capped with a composite liner, overlaid by a drainage system, and covered with at least 6 feet of clean fill soil. Excavation areas were limed, fertilized and seeded to prevent wind and water erosion. The final cell contains about 527,000 cubic yards of contaminated soil, debris and solidification/stabilization-treated soil. The State of Florida began the Operations & Maintenance phase of the Operable Unit One Interim Remedial Action and most of the Operable Unit One Final Remedial Action on March 1, 2013.

Cleanup Levels

On March 5, 2012, the EPA issued an ESD to update the 2006 Final ROD's soil cleanup goals to reflect the appropriate level of protectiveness for potential exposure pathways at the Site and to change construction requirements in the ROD that were over-specific and found to be impractical once construction was underway. The 2006 Final ROD cleanup goals were updated because they were not developed for all potential pathways for all contaminants (some cleanup levels were solely leaching-based, some were solely direct exposure-based) and the Summers model used for the leaching-based cleanup levels resulted in cleanup goals that were overly conservative. The 2012 ESD established cleanup goals for all COCs based on both the direct exposure and leaching-based groundwater protection pathways. They also replaced the Summers model-derived cleanup goals with updated site-specific cleanup goals for groundwater protection.

The completion of Remedial Actions was documented in three reports and documented in a Superfund Remedial Action Completion memorandum signed on July 30, 2018 (Superfund Enterprise Management System (SEMS) document identification number 11106221). The reports and the memorandum are available in the deletion docket and they describe the cleanup techniques, cleanup concentrations for COCs, confirmation testing results, and QA/QC methodologies. The interim action is documented in a Remedial Action Report approved on September 30, 2009 (SEMS number 11096422). The final action, excluding the dewatering phase of the containment cell construction, is documented in an Interim Remedial Action Report approved on September 30, 2010 (SEMS number 11096426). The last component of the final action was the dewatering phase of the remedial action construction and is documented in a Remedial Action Report Addendum (Leachate) (SEMS number 11106220) and approved by Superfund Remedial Action Completion memorandum signed on July 30, 2018.

Operation and Maintenance

The Site's 2012 Operable Unit One O&M Plan requires the following activities: (1) Semi-annual inspections of the containment cell, the subsurface water drainage system, the soil cover, the Operable Unit One remedy verification groundwater monitoring wells, the surface water management system and site security features; (2) Groundwater elevation monitoring in Operable Unit One remedy verification monitoring wells, annual sampling of Operable Unit One remedy verification groundwater monitoring wells, leachate removal, sampling and monitoring, and settlement monitoring for buildings constructed on the containment cell; and (3) Preventative maintenance for the vegetative cover, erosion and grading, and stormwater management system. The State of Florida is responsible for the Operations and Maintenance activities at the Site.

Institutional Controls

Restrictive covenants are in place on the 50 or so acres that are proposed for partial deletion. The restrictions limit use of property to commercial, industrial, or manufacturing purposes, except that the property shall not be used for any business involving temporary or permanent housing of individuals. The instrument is a 2013 Declaration of Restrictive Covenants, Escambia County Instrument Number 2014029669, recorded in Official Record Book 7164 at Pages 358-388.

Five Year Reviews

EPA conducts reviews every five years to determine if remedies are functioning as intended and if they continue to be protective of human health and the environment. Because contaminants remain in Site soil above levels that would allow for unlimited use and unrestricted exposure, the EPA will continue to conduct five-year reviews, as required by statute. The EPA issued the Fourth statutory Five-Year Review Report on September 27, 2017, and concluded that the remedy at the Site is functioning as intended and is protective of human health and the environment in the short-term (SEMS number 11070132). There were three issues and recommendations that do not change the protectiveness of the remedy. The issues are related to: Institutional controls on the former facility parcels; leaching-based cleanup levels on the former facility parcels; and preventing uses not allowed by restrictive covenants. Two of the unresolved issues identified in the Five-Year Review are limited to the former facility portion of the site, which is not included in this proposed partial deletion. The third recommendation is to prevent uses not allowed by restrictive covenants, which is being implemented by the local government. The EPA will conduct the next Five-Year Review in 2022.

Community Involvement

The EPA held numerous community meetings before and during the residential relocation and the soil cleanup. The EPA issued fact sheets and maintained a public website during remedial construction. The EPA provided Site tours during cleanup to local government staff, elected officials, and the community's Technical Advisor, provided through an EPA Technical Advisor Grant. After the cleanup was complete, the EPA released reuse fact sheets and met with local government to facilitate redevelopment planning.

Determination That the Criteria for Deletion Have Been Met

The EPA has followed all procedures required by 40 CFR 300.425(e), Partial Deletion from the NPL. The EPA consulted with the State of Florida prior to developing this Notice. The EPA determined that both the EPA and FDEP have conducted all appropriate response actions required and that no further response action for this portion of the Site is appropriate. The EPA is publishing a notice in a major local newspaper, The Pensacola News Journal, of its intent to partially delete the Site and how to submit comments. The EPA placed copies of documents supporting the proposed partial deletion in the Site information repository; these documents are available for public inspection and copying.

The implemented Operable Unit One remedy achieved the degree of cleanup and protection specified in the ROD. The selected remedial action objectives and associated cleanup levels for the surface soil are consistent with agency policy and guidance. Based on information currently available to the EPA, no further Superfund response in the area proposed for deletion is needed to protect human health and the environment.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: June 26, 2019.
Mary S. Walker,
Regional Administrator, Region 4.

[FR Doc. 2019-15420 Filed 7-19-19; 8:45 am]

BILLING CODE 6560-50-P